DEPARTMENT OF TRANSPORTATION

Federal Aviation Administration

14 CFR Part 39

[Docket No. FAA-2006-24958; Directorate Identifier 2006-NM-075-AD; Amendment 39-14818; AD 2006-23-06]

RIN 2120-AA64

Airworthiness Directives; Airbus Model A300 Airplanes, Equipped With General Electric CF6-50 Series Engines

AGENCY: Federal Aviation Administration (FAA), Department of Transportation (DOT).

ACTION: Final rule.

SUMMARY: The FAA is adopting a new airworthiness directive (AD) for certain Airbus Model A300 airplanes. This AD requires modifying the airplane and the engine/nacelle to install a third line of defense against inadvertent deployment of the thrust reverser in flight. This AD also requires two other actions that must be accomplished before or concurrently with the modification: installing a structural change in the fan cowl to avoid interference; and installing a dedicated, shielded electrical circuit. This AD results from a report that the manufacturer has developed a third line of defense against the inadvertent deployment of the thrust reverser of Model A300 airplanes that are equipped with General Electric CF6-50 series engines (in accordance with FAA guidelines). We are issuing this AD to prevent inadvertent deployment of the thrust reverser in flight, which could result in reduced controllability of the airplane.

DATES: This AD becomes effective December 12, 2006.

The Director of the Federal Register approved the incorporation by reference of certain publications listed in the AD as of December 12, 2006.

ADDRESSES: You may examine the AD docket on the Internet at http://dms.dot.gov or in person at the Docket Management Facility, U.S. Department of Transportation, 400 Seventh Street, SW., Nassif Building, Room PL-401, Washington, DC.

Contact Airbus, 1 Rond Point Maurice Bellonte, 31707 Blagnac Cedex, France, for service information identified in this AD.

FOR FURTHER INFORMATION CONTACT: Tom Stafford, Aerospace Engineer, International Branch, ANM-116, FAA, Transport Airplane Directorate, 1601 Lind Avenue, SW., Renton, Washington 98057-3356; telephone (425) 227-1622; fax (425) 227-1149.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain Airbus Model A300 airplanes. That NPRM was published in the Federal Register on June 8, 2006 (71 FR 33264). That NPRM proposed to require modifying the airplane and the engine/nacelle to install a third line of defense against inadvertent deployment of the thrust reverser in flight. That NPRM also proposed to require two other actions that must be accomplished before or concurrently with the modification: installing a structural change in the fan cowl to avoid interference; and installing a dedicated, shielded electrical circuit.

Comments

We provided the public the opportunity to participate in the development of this AD. We have considered the comments received.

Support for the NPRM

Air line Pilots Association supports the NPRM.

Request To Revise the “Costs of Compliance”

GE Aviation requests that we revise the estimated costs for complying with the NPRM. GE Aviation specifically requests the changes shown in the following table.

Requested Changes to Estimated Costs
Action | Work hours in NPRM | Requested change | Parts cost in original NPRM | Requested change
Install third line of defense | 6 | 282 | $440 | $172,744.
Install structural change in the fan cowl (prior/concurrent requirement) | 312 | 328 | 5,680 | No change requested.
Install dedicated, shielded electrical circuit (prior/concurrent requirement) | 94 | 261 | 28,700 | $18,320.

We agree to revise the cost information. This cost information is not provided in the Airbus service information that was referenced in the NPRM, but is available through Middle River Aircraft Systems (MRAS), a subsidiary of the General Electric Company. Therefore, we agree that the MRAS cost information provided by GE Aviation is valid. We have revised the estimated costs in this final rule as requested by GE Aviation. We have coordinated this change with Airbus.

Request To Revise Description of Service Bulletin

GE Aviation also requests that we revise the description of Airbus Service Bulletin A300-78-0022, dated September 27, 2005, which was included in the “Relevant Service Information” section of the NPRM. The NPRM referred to that service bulletin as the appropriate source of service information for accomplishing the proposed actions. GE Aviation specifically requests that we add the phrase “installing the electro-pneumatic locking bar assembly on each thrust reverser half,” before the phrase, “and installing a dual switcher valve. * * *”

We agree with the commenter that the requested phrase clarifies our description of the service bulletin. However, since that section of the preamble does not reappear in the final rule, no change to this AD is necessary.

Conclusion

We have carefully reviewed the available data, including the comments received, and determined that air safety and the public interest require adopting the AD as proposed.

Costs of Compliance

This AD affects about 30 airplanes of U.S. registry. The following table provides the estimated costs for U.S. operators to comply with this AD. The average labor rate is $80 per work hour.

Estimated Costs
Action | Work hours | Parts ($) | Cost per airplane ($) | Fleet cost ($)
Install third line of defense | 282 | 172,744 | 195,304 | 5,859,120
Install structural change in the fan cowl (prior/concurrent requirement) | 328 | 5,680 | 31,920 | 957,600
Install dedicated, shielded electrical circuit (prior/concurrent requirement) | 261 | 18,320 | 39,200 | 1,176,000

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-23-06 Airbus: Amendment 39-14818. Docket No. FAA-2006-24958; Directorate Identifier 2006-NM-075-AD.

Effective Date

(a) This AD becomes effective December 12, 2006.

Affected ADs

(b) None.

Applicability

(c) This AD applies to Airbus Model A300 airplanes, certificated in any category; equipped with General Electric CF6-50 series engines.

Unsafe Condition

(d) This AD results from a report that the manufacturer has developed a third line of defense against the inadvertent deployment of the thrust reverser of Model A300 airplanes that are equipped with General Electric CF6-50 series engines (in accordance with FAA guidelines). We are issuing this AD to prevent inadvertent deployment of the thrust reverser in flight, which could result in reduced controllability of the airplane.

Compliance

(e) You are responsible for having the actions required by this AD performed within the compliance times specified, unless the actions have already been done.

Modification

(f) Within 48 months after the effective date of this AD, modify the airplane and the engine/nacelle to install a third line of defense against inadvertent deployment of the thrust reverser in flight, in accordance with the Accomplishment Instructions of Airbus Service Bulletin A300-78-0022, dated September 27, 2005.

Prior/Concurrent Installations

(g) Prior to or concurrently with the modification required by paragraph (f) of this AD, do the installations specified in Table 1 of this AD in accordance with the Accomplishment Instructions of the service bulletins listed in Table 1 of this AD.

Table 1.—Prior/Concurrent Actions
Action | Airbus service bulletin
(1) Install a structural change in the fan cowl to avoid interference between the third line of defense hardware installed on the thrust reverser and the fan cowl | A300-54-0098, dated September 27, 2005.
(2) Install a dedicated, shielded electrical circuit, segregated from the current thrust reverser control system | A300-78-0021, dated September 27, 2005.

Alternative Methods of Compliance (AMOCs)

(h)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(i) French airworthiness directive F-2005-206, dated December 21, 2005, also addresses the subject of this AD.

Material Incorporated by Reference

(j) You must use the service information specified in Table 2 of this AD to perform the actions that are required by this AD, unless the AD specifies otherwise. The Director of the Federal Register approved the incorporation by reference of these documents in accordance with 5 U.S.C. 552(a) and 1 CFR part 51. Contact Airbus, 1 Rond Point Maurice Bellonte, 31707 Blagnac Cedex, France, for a copy of this service information. You may review copies at the Docket Management Facility, U.S. Department of Transportation, 400 Seventh Street, SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Table 2.—Material Incorporated by Reference
Airbus service bulletin— | Dated—
A300-54-0098 | September 27, 2005.
A300-78-0021 | September 27, 2005.
A300-78-0022 | September 27, 2005.

Issued in Renton, Washington, on October 25, 2006.
Kalene C. Yanamura,
Acting Manager, Transport Airplane Directorate, Aircraft Certification Service.

[FR Doc. E6-18663 Filed 11-6-06; 8:45 am]

BILLING CODE 4910-13-P